DEPARTMENT OF VETERANS AFFAIRS

38 CFR Part 21

RIN 2900-AJ89

Increase in Rates Payable Under the Montgomery GI Bill—Active Duty

AGENCY: Department of Veterans Affairs.

ACTION: Final rule; technical correction.

SUMMARY: By statute, the monthly rates of basic educational assistance payable to veterans under the Montgomery GI Bill—Active Duty must be adjusted each fiscal year. In a document published in the Federal Register on July 20, 2000 (65 FR 44979), we intended to amend the regulations governing rates of basic educational assistance payable under the Montgomery GI Bill—Active Duty for fiscal year 2000 (October 1, 1999, through September 30, 2000) to show a 1.6% increase in these rates in accordance with the statutory formula. Some of the published rates were incorrect. Accordingly, this document makes corrections to these rates.

DATES: Effective Date: This final rule is effective September 13, 2000.

Applicability Date: However, the changes in rates are applied retroactively to conform to statutory requirements.

For more information concerning the dates of applicability, see the SUPPLEMENTARY INFORMATION section.

FOR FURTHER INFORMATION CONTACT: William G. Susling, Jr., Assistant Director for Policy and Program Development, Education Service (225C), Veterans Benefits Administration, Department of Veterans Affairs, (202) 273-7187.

SUPPLEMENTARY INFORMATION: The changes set forth in this final rule are effective from the date of publication, but the changes in rates are applied retroactively from October 1, 1999, in accordance with the applicable statutory provisions.

Changes made by this final rule merely reflect statutory requirements and adjustments made based on previously established formulas. Accordingly, there is a basis for dispensing with prior notice and comment and delayed effective date provisions of 5 U.S.C. 552 and 553.

Regulatory Flexibility Act

The Secretary of Veterans Affairs hereby certifies that this final rule will not have a significant economic impact on a substantial number of small entities as they are defined in the Regulatory Flexibility Act, 5 U.S.C. 601-612. This final rule directly affects only individuals and does not directly affect small entities. Pursuant to 5 U.S.C. 605(b), this final rule, therefore, is exempt from the initial and final regulatory flexibility analyses requirements of sections 603 and 604.

Unfunded Mandates

The Unfunded Mandates Reform Act requires (in section 202) that agencies prepare an assessment of anticipated costs and benefits before developing any rule that may result in an expenditure by State, local, or tribal governments, in the aggregate, or by the private sector of $100 million or more in any given year. This rule would have no consequential effect on State, local, or tribal governments.

Catalog of Federal Domestic Assistance Program Numbers

The Catalog of Federal Domestic Assistance number for the program affected by this final rule is 64.124.

List of Subjects in 38 CFR Part 21

Administrative practice and procedure, Armed forces, Civil rights, Claims, Colleges and universities, Conflict of interests, Defense Department, Education, Employment, Grant programs-education, Grant programs-veterans, Health programs, Loan programs-education, Loan programs-veterans, Manpower training programs, Reporting and recordkeeping requirements, Schools, Travel and transportation expenses, Veterans, Vocational education, Vocational rehabilitation.

Approved: September 5, 2000.
Thomas O. Gessel,
Director, Office of Regulations Management.

For the reasons set out in the preamble, 38 CFR part 21, subpart K, is amended as follows:

PART 21—VOCATIONAL REHABILITATION AND EDUCATION

Subpart K—All Volunteer Force Educational Assistance Program (Montgomery GI Bill—Active Duty)

1. The authority citation for part 21, subpart K continues to read as follows:

Authority: 38 U.S.C. 501(a), chs. 30, 36, unless otherwise noted.

§ 21.7136 [Amended]

2. Section 21.7136 is amended by:

A. In the chart in paragraph (b)(2), removing “$187.50” and adding, in its place, “187.60”.

B. In the chart in paragraph (c)(1), removing “$216.00” both places it appears and adding, in both place, “$218.00”; and by removing “$108.00” and adding, in its place, “109.00”.

§ 21.7137 [Amended]

3. Section 21.7137 paragraph (a)(1), is amended in the chart by:

A. Removing “$543.00” and adding, in its place, “$543.50”.

B. Removing “$593.00” and adding, in its place, “$593.50”.

C. Removing “$395.00” and adding, in its place, “$395.50”.

[FR Doc. 00-23338 Filed 9-12-00; 8:45 am]

BILLING CODE 8320-01-P